DEPARTMENT OF THE INTERIOR

Fish and Wildlife Service

[FWS-R4-ES-2014-N214; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by November 17, 2014.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: Angela Romito, 10(a)(1)(A) Permit Coordinator, telephone 404-679-7101; facsimile 404-678-7081.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to: permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 083085-2

Applicant: Eric Menges, Venus, Florida

The applicant requests authorization to take (remove or reduce to possession parts) of the pygmy fringe tree (Chionanthus pygmaeus), scrub buckwheat (Eriogonum longifolium var. gnaphalifolium), Britton's beargrass (Nolina brittoniana), Lewton's milkwort (Polygala lewtonii), scrub plum (Prunus geniculata), and Florida ziziphus (Ziziphus celata), for the purpose of conducting research and recovery activities on federally managed lands in Highlands County, Florida.

Permit Application Number: TE 102418-2

Applicant: Paul Catlett, Starke, Florida

The applicant requests authorization to renew his permit to take (monitor nests, capture, band, release, collect nonviable eggs, and install artificial cavities) red-cockaded woodpeckers (Picoides borealis) while conducting presence/absence surveys and population management activities at Camp Blanding Joint Training Center in Starke, Florida.

Permit Application Number: TE 142294-3

Applicant: William Holimon, Little Rock, Arkansas

The applicant requests authorization to renew his permit to take (harass) red‐cockaded woodpeckers (Picoides borealis) for the purposes of constructing and monitoring artificial nest cavities and restrictors; for capturing, banding, and translocating birds; and for monitoring populations and nest cavities in Ashley, Monroe, Bradley, and Drew Counties, Arkansas.

Permit Application Number: TE-1

Applicant: Carl Dick, Bowling Green, Kentucky

The applicant requests authorization to renew his permit to take (acoustical monitoring, enter hibernacula or maternity roost caves, salvage dead bats, capture with mist nets or harp traps, handle, identify, collect hair samples, band, transmitter, light-tag, and wing-punch) Indiana bats (Myotis sodalis), gray bats (Myotis grisescens), Virginia big-eared bats (Corynorhinus townsendii virginianus), Ozark big-eared bats (Corynorhinus townsendii ingens), Hawaiian hoary bats (Lasiurus cinereus semotus), lesser long-nosed bats (Leptonycteriscurasoae yerbabuenae), and Mexican long-nosed bats (Leptonycteris nivalis) while conducting presence/absence surveys, studies to document habitat use, and population monitoring throughout the species' respective ranges.

Permit Application Number: TE 38397A-1

Applicant: Dr. Kathryn Craven, Savannah, Georgia

The applicant requests authorization to renew her permit to take (harass, excavate hatched nests, collect hatched eggs, dead embryos and hatchlings) loggerhead sea turtles (Caretta caretta), green sea turtles (Chelonia mydas), Kemp's Ridley sea turtles (Lepidochelys kempii), leatherback sea turtles (Dermochelys coriacea), and hawksbill sea turtles (Eretmochelys imbricata) while monitoring nest success and conducting scientific research in Georgia.

Permit Application Number: TE 206784-2

Applicant: William Bailey, Searcy, Arkansas

The applicant requests authorization to renew his permit to take (capture, tag, translocate, release, and hold) American burying beetles (Nicrophorus americanus) for the purpose of survey and collection throughout the species' range in Arkansas and Oklahoma.

Permit Application Number: TE 178643-2

Applicant: Jeffery West, Columbia, South Carolina

The applicant requests authorization to renew his permit to take (capture and temporarily hold for identification) the Carolina heelsplitter (Lasmigona decorata) while conducting presence/absence surveys in North Carolina and South Carolina.

Permit Application Number: TE 25612A-1

Applicant: Stephen Samoray, Nashville, Tennessee

The applicant requests authorization to renew his permit to take (acoustical monitoring, enter hibernacula or maternity roost caves, salvage dead bats, capture with mist nets or harp traps, handle, identify, collect hair samples, band, transmitter, light-tag, wing-punch) Indiana bats (Myotis sodalis), gray bats (Myotis grisescens), Virginia big-eared bats (Corynorhinus townsendii virginianus), and Ozark big-eared bats (Corynorhinus townsendii ingens), while conducting presence/absence surveys, studies to document habitat use, and population monitoring throughout the species' respective ranges.

Permit Application Number: TE 28597A-1

Applicant: Joseph Alderman, Hillsborough, North Carolina

The applicant requests authorization to renew his permit to take (harass, capture, handle, and release) the following species: Carolina heelsplitter (Lasmigona decorata), Appalachian elktoe (Alasmidonta raveneliana), tar river spinymussel (Elliptio steinstansana), dwarf wedgemussel (Alasmidonta heterodon), James spinymussel (Pleurobema collina), little wing pearlymussel (Pegias fabula), and Cape Fear shiner (Notropis mekistocholas), for the purpose of conducting presence/absence surveys in North Carolina, South Carolina, and Virginia.

Permit Application Number: TE 087176-3

Applicant: David Eisenhour, Morehead, Kentucky

The applicant requests authorization to renew his permit to take (harass, capture, identify, release) blackside dace (Phoxinus cumberlandensis) while conducting presence/absence surveys in Kentucky and Tennessee.

Permit Application Number: TE 43704A-1

Applicant: David Saugey, Jessieville, Arkansas

The applicant requests authorization to renew his permit to take (acoustical monitoring, enter hibernacula or maternity roost caves, salvage dead bats, capture with mist nets or harp traps, handle, identify, collect hair samples, band, transmitter, light-tag, wing-punch) Indiana bats (Myotis sodalis), gray bats (Myotis grisescens), Virginia big-eared bats (Corynorhinus townsendii virginianus), and Ozark big-eared bats (Corynorhinus townsendii ingens), while conducting presence/absence surveys, studies to document habitat use, and population monitoring throughout the respective species' ranges.

Permit Application Number: TE 065756-3

Applicant: John Alderman, Pittsboro, North Carolina

The applicant requests authorization to renew his permit to take (capture, identify, and release) the following plant species: Southern acornshell (Epioblasma othcaloogensis), purple bankclimber (Elliptoideus sloatianus), Cumberland bean (Villosa trabalis), purple bean (Villosa perpurpurea), green blossom (Epioblasma torulosa gubernaculum), tubercled blossom (Epioblasma torulosa torulosa), turgid blossom (Epioblasma turgidula), yellow blossom (Epioblasma florentina florentina), white catspaw (Epioblasma obliquata perobliqua), clubshell (Pleurobema clava), black clubshell (Pleurobema curtum), ovate clubshell (Pleurobema perovatum), Southern clubshell (Pleurobema decisum), Cumberlandian combshell (Epioblasma brevidens), Southern combshell (Epioblasma penita), upland combshell (Epioblasma metastriata), Appalachian elktoe (Alasmidonta raveneliana), Cumberland elktoe (Alasmidonta atropurpurea), fanshell (Cyprogenia stegaria), Arkansas fatmucket (Lampsilis powellii), Alabama Heelsplitter (Potamilus inflatus), Carolina Heelsplitter (Lasmigona decorate), Higgins eye (Lampsilis higginsii), triangular kidneyshell (Ptychobranchus greenii), Alabama lampmussel (Lampsilis virescens), pale lilliput (Toxolasma cylindrellus), winged mapleleaf (Quadrula fragosa), Alabama moccasinshell (Medionidus acutissimus), Coosa moccasinshell (Medionidus parvulus), gulf moccasinshell (Medionidus penicillatus), Ochlocknee moccasinshell (Medionidus simpsonianus), Appalachian monkeyface (Quadrula sparsa), Cumberland monkeyface (Quadrula intermedia), orangenacre mucket (Lampsilis perovalis), pink mucket (Lampsilis abrupta), oyster mussel (Epioblasma capsaeformis), scaleshell mussel (Leptodea leptodon), Louisiana pearlshell (Margaritifera hembeli), birdwing pearlymussel (Conradilla caelata), cracking pearlymussel (Hemistena lata), Curtis pearlymussel (Epioblasma florentina curtisii), dromedary pearlymussel (Dromus dromas), littlewing pearlymussel (Pegias fabula), Cumberland pigtoe (Pleurobema gibberum), dark pigtoe (Pleurobema furvum), finerayed pigtoe (Fusconaia cuneolus), flat pigtoe (Pleurobema marshalli), Georgia pigtoe (Pleurobema hanleyianum), heavy pigtoe (Pleurobema taitianum), oval pigtoe (Pleurobema pyriforme), rough pigtoe (Pleurobema plenum), shiny pigtoe (Fusconaia cor), Southern pigtoe (Pleurobema georgianum), orangefoot pimpleback (Plethobasus cooperianus), fat pocketbook (Potamilus capax), finelined pocketbook (Lampsilis altilis), Ouachita rock pocketbook (Arkansia wheeleri), shinyrayed pocketbook (Lampsilis subangulata), speckled pocketbook (Lampsilis streckeri), purple cat's paw (Epioblasma obliquata obliquata), rough rabbitsfoot (Quadrula cylindrica strigillata), northern riffleshell (Epioblasma torulosa rangiana), tan riffleshell (Epioblasma florentina walkeri (=E. walkeri), Ring pink (Obovaria retusa), Chipola slabshell (Elliptio chipolaensis), James spinymussel (Pleurobema collina), Tar River spinymussel (Elliptio steinstansana), stirrupshell (Quadrula stapes), fat three-ridge (Amblema neislerii), white wartyback, (Plethobasus cicatricosus), dwarf wedgemussel (Alasmidonta heterodon), and Altamaha spinymussel (Elliptio spinosa). The take would occur while the applicant engaged in conducting presence/absence surveys and translocations in North Carolina, South Carolina, Georgia, Kentucky, Tennessee, Florida, and Arkansas.

Permit Application Number: TE 97394A-2

Applicant: Zackary Couch, Pleasureville, Kentucky

The applicant requests authorization to take (acoustical monitoring, enter hibernacula or maternity roost caves, salvage dead bats, capture with mist nets or harp traps, handle, identify, collect hair samples, band, transmitter, light-tag, wing-punch) Indiana bats (Myotis sodalis), gray bats (Myotis grisescens), Northern long eared bats (Myotis septentrionalis), and Virginia big eared bats (Corynorhinus townsendii virginianus), while conducting presence/absence surveys, studies to document habitat use, and population monitoring throughout the species' ranges.

Permit Application Number: TE 139474-7

Applicant: Dennis Ford, Little Rock, Arkansas

The applicant requests authorization to take (harass) the American burying beetle (Nicrophorus americanus) while conducting research activities in Arkansas, Oklahoma, Kansas, and Texas.

Permit Application Number: TE 63633A-3

Applicant: David Evers, Gorham, Maine

The applicant requests authorization to take (acoustical monitoring, enter hibernacula or maternity roost caves, salvage dead bats, capture with mist nets or harp traps, handle, identify, collect hair samples, band, transmitter, light-tag, wing-punch) northern long-eared bats (Myotis septentrionalis) while conducting presence/absence surveys in Illinois, Indiana, Massachusetts, Virginia, Minnesota, North Carolina, South Carolina, Pennsylvania, West Virginia, and Missouri.

Permit Application Number: TE 13910A-2

Applicant: Terry Derting, Murray, Kentucky

The applicant requests authorization to renew his permit to take (acoustical monitoring, enter hibernacula or maternity roost caves, salvage dead bats, capture with mist nets or harp traps, handle, identify, collect hair samples, band, transmitter, light-tag, wing-punch, and selectively euthanize for white nose syndrome testing) Indiana bats (Myotis sodalis), gray bats (Myotis grisescens), Virginia big eared bats (Corynorhinus townsendii virginianus), Ozark big-eared bats (Corynorhinus townsendii ingens), and northern long eared bats (Myotis septentrionalis), while conducting presence/absence surveys and studies to document habitat use in Georgia, Tennessee, Kentucky, Ohio, Indiana, and West Virginia.

Permit Application Number: TE 084047-4

Applicant: Maria Zondervan, Maitland, Florida

The applicant requests authorization to take (harass) the red‐cockaded woodpecker (Picoides borealis) and Florida scrub jay (Aphelocoma coerulescens) for the purposes of constructing and monitoring artificial nest cavities and restrictors; for capturing, banding, and the translocation of birds; and for monitoring populations and nest cavities on lands managed by the St. John's River Management District in Florida.

Permit Application Number: TE 092854-2

Applicant: Samuel Van Hook, Babson Park, Florida

The applicant requests authorization to take (harass and insert artificial nest cavities) red-cockaded woodpeckers (Picoides borealis) while conducting status surveys and habitat enhancement activities in Florida.

Permit Application Number: TE 091705-3

Applicant: Peter White, Chapel Hill, North Carolina

The applicant requests authorization to possess (collect seeds, spores, sporocarps, cuttings, vegetative material) Amaranthus pumilus (sea beach amaranth), Amphianthus pusillus (little amphianthus), Arabis serotina (shale-barren rockcress), Carex lutea (golden sedge), Clematis socialis (Alabama leather-flower), Echinacea laevigata (smooth-purple coneflower), Geum adiatum (Appalachian avens), Gymnoderma lineare (rock gnome lichen), Helianthus schweinitzii (Schweinitz's sunflower), Hexastylis naniflora (dwarf-flowered hartleaf), Hudsonia montana (mountain golden-heartleaf), Isoetes melanospora (black-spore quillwort), Isoetes tegetiformans (Merlin's-grass), Liatris helleri (Heller's gayfeather), Lysimachia asperulaefolia (rough- leaved loosestrife), Oxypolis canbyi (Canby's dropwort), Pityopsis ruthii (Ruth's golden aster), Ptilimnium nodosum (harparella), Rhus michauxii (Michaux's sumac), Sagittaria fasciculata (bunched arrowhead), Sagittaria secundifolia (little river arrowhead), Sarracenia jonesii (mountain sweet pitcher-plant), Sarracenia oreophila (green pitcher-plant), Scutellaria montana (largeflower skullcap), Solidago spithamaea (blue ridge goldenrod), Spiraea virginiana (Virginia spirea), Thalictrum cooleyi (Cooley's meadowrue), Trifolium stoloniferum (running buffalo clover), sensitive joint-vetch (Aeschynomene virginica), Virginia round-leaf birch (Betula uber), Roan Mountain bluet (Hedyotis purpurea var. montana), swamp pink (Helonias bullata), American chaffseed (Schwalbea americana), and white irisette (Sisyrinchium dichotomum), throughout the species' ranges on federally managed lands in North Carolina, South Carolina, Tennessee, Georgia, Alabama, Florida, West Virginia, Virginia, and Maryland.

Permit Application Number: TE 119937-3

Applicant: Susan Loeb, Clemson, South Carolina

The applicant requests authorization to take (acoustical monitoring, enter hibernacula or maternity roost caves, salvage dead bats, capture with mist nets or harp traps, handle, identify, collect hair samples, band, transmitter, light-tag, wing-punch) Indiana bats (Myotis sodalis), gray bats (Myotis grisescens), and northern long-eared bats (Myotis septentrionalis), while conducting presence/absence surveys, studies to document habitat use, and population monitoring in North and South Carolina, Tennessee, and Kentucky.

Permit Application Number: TE 129703-5

Applicant: Mitch Green, Frankfort, Kentucky

The applicant requests authorization to renew his existing permit to take (acoustical monitoring, enter hibernacula or maternity roost caves, salvage dead bats, capture with mist nets or harp traps, handle, identify, collect hair samples, band, transmitter, light-tag, wing-punch, and selectively euthanize for white nose syndrome testing) Indiana bats (Myotis sodalis), gray bats (Myotis grisescens), northern long-eared bats (Myotis septentrionalis), and Virginia big-eared bats (Corynorhinus townsendii virginianus) while conducting presence/absence surveys, studies to document habitat use, and population monitoring in Tennessee, Kentucky, and Alabama. The applicant also requests authorization to take (harass) the clubshell (Pleurobema clava), scaleshell (Leptodea leptodon), and northern riffleshell (Epioblasma torulosa rangiana) while conducting presence/absence surveys in North Carolina, Alabama, and West Virginia.

Permit Application Number: TE 38519A-1

Applicant: Joshua Hofkes, Tallahassee, Florida

The applicant requests authorization to take (harass, capture, and translocate) gopher tortoise (Gopherus polyphemus) for the purpose of conducting population surveys and removing tortoises from development sites to suitable alternative habitat in Louisiana, Mississippi, and Alabama.

Permit Application Number: TE 810274-11

Applicant: Peter Droppelman, Louisville, Kentucky

The applicant requests authorization to take (acoustical monitoring, enter hibernacula or maternity roost caves, salvage dead bats, capture with mist nets or harp traps, handle, identify, collect hair samples, band, transmitter, light-tag, and wing-punch, Indiana bats (Myotis sodalis), gray bats (Myotis grisescens), Virginia big eared bats (Corynorhinus townsendii virginianus), northern long eared bats (Myotis septentrionalis), and Ozark big-eared bats (Corynorhinus townsendii ingens) while conducting presence/absence surveys and studies to document habitat use in the following States: Alabama, Arkansas, Georgia, Kentucky, Mississippi, North Carolina, South Carolina, Tennessee, Maryland, New Hampshire, New Jersey, New York, Pennsylvania, Vermont, Virginia, West Virginia, Illinois, Indiana, Iowa, Michigan, Missouri, and Ohio.

Permit Application Number: TE 71613A-1

Applicant: Gary McCracken, Knoxville, Tennessee

The applicant requests authorization to permittee is authorized to take (acoustical monitoring, enter hibernacula or maternity roost caves, salvage dead bats, capture with mist nets or harp traps, handle, identify, collect hair and fecal samples, conduct radio-telemetry, and PIT-tag) Indiana bats (Myotis sodalis), northern long-eared bats (Myotis septentrionalis), and gray bats (Myotis grisescens) while conducting presence/absence surveys and studies to document habitat use in Tennessee, Missouri, and the Fern and Sauta caves in Jackson County, Alabama.

Permit Application Number: TE 108584-6

Applicant: Tim Nehus, Lebanon, Tennessee

The applicant requests authorization to take (capture, hold temporarily, release, and translocate) Nashville crayfish (Orconectes shoupi), birdwing pearlymussel (Conradilla caelata), oyster mussel (Epioblasma capsaeformis), tan riffleshell (Epioblasma walkeri), Cumberland monkeyface (Quadrula intermedia), orangefoot pimpleback (Plethobasus cooperianus), Cumberland elktoe (Alasmidonta atropurpurea), Appalachian elktoe (Alasmidonta raveneliana), fanshell (Cyprogenia stegaria (irrorata)), dromedary pearlymussel (Dromus dromus), Cumberlandian combshell (Epioblasma brevidens), yellow-blossom pearlymussel (Epioblasma florentina), upland combshell (Epioblasma metastriata), Southern acornshell (Epioblasma othcaloogensis), green-blossom pearlymussel (Epioblasma torulosa gubernaculum), tuberculed-blossom pearlymussel (Epioblasma torulosa torulosa), turgid-blossom pearlymussel (Epioblasma turgidula), purple catspaw (Epioblasma obliquata), fine-lined pocketbook (Lampsilis altilis), pink mucket pearlymussel (Lampsilis abrupta), Alabama lampmussel (Lampsilis virescens), Alabama moccasinshell (Medionidus acutissimus), Coosa moccasinshell (Medionidus parvulus), ring-pink mussel (Obovaria retusa), little-wing pearlymussel (Pegias fabula), white warty-back (Plethobasus cicatricosus), clubshell (Pleurobema clava), Southern clubshell (Pleurobema decisum), Southern pigtoe (Pleurobema georgianum), Cumberland pigtoe (Pleurobema gibberum), ovate clubshell (Pleurobema perovatum), rough pigtoe (Pleurobema plenum), triangular kidneyshell (Ptychobranchus greeni), rough rabbitsfoot (Quadrula cylindrica strigillata), winged mapleleaf (Quadrula fragosa), Appalachian monkeyface (Quadrula sparsa), pale lilliput (Toxolasma cylindrellus), Cumberland bean pearlymussel (Villosa trabalis), purple bean (Villosa perpurpurea), blue shiner (Cyprinella caerulea), slender chub (Erimystax cahni), slackwater darter (Etheostoma boschungi), duskytail darter (Etheostoma percnurum), jewel darter (Etheostoma sp.), boulder darter (Etheostoma wapiti), spotfin chub (Cyprinella monacha), palezone shiner (Notropis albizonatus), smoky madtom (Noturus baileyi), yellowfin madtom (Noturus flavipinnis), pygmy madtom (Noturus stanauli), amber darter (Percina antesella), Conasauga logperch (Percina jenkinsi), snail darter (Percina tanasi), and blackside dace (Phoxinus cumberlandensis), while conducting presence and absence studies and translocation activities throughout the species' ranges in the State of Tennessee.

Permit Application Number: TE 41910B-0

Applicant: Scott Rush, Starkville, Mississippi

The applicant requests authorization to take (acoustical monitoring, enter hibernacula or maternity roost caves, salvage dead bats, capture with mist nets or harp traps, handle, identify, collect hair samples, band, transmitter, light-tag, and wing-punch) Indiana bats (Myotis sodalis), gray bats (Myotis grisescens), and northern long eared bats (Myotis septentrionalis) while conducting presence/absence surveys and studies to document habitat use in Mississippi.

Permit Application Number: TE 37951B-0

Applicant: Michael LaVoie, Cherokee, North Carolina

The applicant requests authorization to take (acoustical monitoring, enter hibernacula or maternity roost caves, salvage dead bats, capture with mist nets or harp traps, handle, identify, collect hair samples, band, attach transmitters, light-tag, wing-punch, and selectively euthanize for white nose syndrome testing) Indiana bats (Myotis sodalis) in Jackson, Swain, Graham, and Cherokee Counties in North Carolina, while conducting presence/absence surveys, studies to document habitat use, and population monitoring.

Permit Application Number: TE 37967B-0

Applicant: Matthew Grilliot, Opelika, Alabama

The applicant requests authorization to take (acoustical monitoring, enter hibernacula or maternity roost caves, salvage dead bats, capture with mist nets or harp traps, handle, identify, collect blood, fecal, and hair samples, band, attach transmitters, light-tag, and wing-punch) Indiana bats (Myotis sodalis), gray bats (Myotis grisescens), Virginia big-eared bats (Corynorhinus townsendii virginianus), and Ozark big-eared bats (Corynorhinus townsendiiingens) while conducting presence/absence surveys and other research activities throughout the species' ranges in Arkansas, Alabama, Tennessee, Georgia, and Kentucky.

Permit Application Number: TE 37900B-0

Applicant: Sarah Lauerman, Gainesville, Florida

The applicant requests authorization to take (harass, nest monitor, capture, band, and translocate) red‐cockaded woodpeckers (Picoides borealis) for the purposes of constructing and monitoring artificial nest cavities and restrictors; for capturing, banding, and translocation of birds; and for monitoring populations and nest cavities in Osceola National Forest.

Permit Application Number: TE 37524B-0

Applicant: Kathy Heym, Tampa Florida

The applicant requests authorization to take (hold for veterinary) loggerhead sea turtles (Caretta caretta), green sea turtles (Chelonia mydas), Kemp's Ridley sea turtles (Lepidochelys kempii), leatherback sea turtles (Dermochelys coriacea), hawksbill sea turtles (Eretmochelys imbricata), and Olive ridley sea turtles (Lepidochelys olivacea) at the Florida Aquarium located in Tampa, Florida.

Permit Application Number: TE 37666B-0

Applicant: Jessica Allen, Bronx, New York

The applicant requests authorization to take (collect squamules) rock gnome lichens (Gymnoderma lineare) for the purpose of conducting population genetics research in the Great Smoky Mountains National Park, the Blue Ridge Parkway, Pisgah National Forest, and Nantahala National Forest, North Carolina.

Permit Application Number: TE 37663B-0

Applicant: Rebecca Ijames, Central City, Kentucky

The applicant requests authorization to take (acoustical monitoring, enter hibernacula or maternity roost caves, salvage dead bats, capture with mist nets or harp traps, handle, identify, collect hair samples, band, attach transmitters, light-tag, and wing-punch) Indiana bats (Myotis sodalis), gray bats (Myotis grisescens), and northern long eared bats (Myotis septentrionalis) while conducting presence/absence surveys and studies to document habitat use in Kentucky, Indiana, Tennessee, Ohio, and Missouri.

Permit Application Number: TE 37652B-0

Applicant: Bambi Teague, Asheville, North Carolina

The applicant requests authorization take (harass) the following species: Carolina Northern flying squirrel (Glaucomys sabrinus coloratus), Virginia big-eared bat (Corynorhinus townsendii virginianus), Indiana bats (Myotis sodalis), gray bats (Myotis grisescens), bog turtle (Clemmys muhlenbergii), Roanoke logperch (Percina rex), spruce-fir moss spider (Microhexura montivaga), and Mitchell's satyr (Neonympha mitchellii) for the purposes of conducting population studies throughout the species' ranges in Virginia and North Carolina.

Permit Application Number: TE 37530B-0

Applicant: Kelly Morrison, Nashville, Tennessee

The applicant requests authorization to take (capture, identify, hold temporarily, release, and translocate) Nashville crayfish (Orconectes shoupi) for the purpose of minimizing effects of development projects on individual specimens in Davidson and Williamson Counties, Tennessee.

Permit Application Number: TE 37661B-0

Applicant: William McCartney, Morton, Mississippi

The applicant requests authorization to take (acoustical monitoring, enter hibernacula or maternity roost caves, salvage dead bats, capture with mist nets or harp traps, handle, identify, collect hair samples, band, attach transmitters, light-tag, and wing-punch) Indiana bats (Myotis sodalis) and northern long-eared bats (Myotis septentrionalis) while conducting presence/absence surveys and studies to document habitat use in Louisiana.

Permit Application Number: TE 105674-2

Applicant: Stephen Shurter, White Oak Conservation Holdings LLC, Yulee, Florida

The applicant requests authorization to take (harass, maintain in captivity, and release) Mississippi sandhill cranes (Grus canadensis pulla) throughout the species' range in Mississippi.

Permit Application Number: TE 39433B-0

Applicant: Linda Edwards, Smyrna, Georgia

The applicant requests authorization to take (capture, hold temporarily, and release) the bog turtle (Glyptemys muhlenbergii), eastern indigo snake (Drymarchon couperi), gopher tortoise (Gopherus polyphemus), and spotted turtle (Clemmys guttata) for the purpose of conducting presence/absence surveys in Georgia.

Permit Application Number: TE 171518-1

Applicant: Norman L. Wagoner, Ouachita National Forest, Hot Springs, Arkansas

The applicant requests authorization to take (survey, capture, band, radio-tag, translocate, and install artificial structures) the red-cockaded woodpecker (Picoides borealis) for the purposes of constructing and monitoring artificial nest cavities and restrictors; for capturing, banding, and translocating birds; and for monitoring populations and nest cavities in Oklahoma and Arkansas.

Permit Application Number: TE 070846-3

Applicant: Jeffrey Walters, Virginia Tech, Blacksburg, Virginia

The applicant requests authorization to take (monitor nests, capture, band, radio-tag, collect blood, construct cavities, and translocate) red-cockaded woodpeckers (Picoides borealis) for the purposes of banding juveniles and adults, monitoring populations and nest cavities, and for conducting basic research and recovery activities in Florida, North Carolina, and South Carolina.

Permit Application Number: TE 084054-3

Applicant: James Orr, URS Corporation, Franklin, Tennessee

The applicant requests authorization to take (capture, identify, release, and translocate) Nashville crayfish (Orconectes shoupi) and Anthony's river snail (Athernia anthonyi) while conducting presence/absence surveys, population estimates, age class determination, and relocation activities in Alabama and Tennessee.

Permit Application Number: TE 41705B-0

Applicant: John Mulvena, Naples Zoo Inc. Naples, Florida

The applicant requests authorization to take (possess) the Florida panther (Puma concolor coryi) for the purposes of rehabilitation and public education at the Naples Zoo in Caribbean Gardens, Naples, Florida.

Permit Application Number: TE 056510-5

Applicant: Joseph Pechmann, Western Carolina University, Cullowhee, North Carolina

The applicant requests authorization to renew his existing permit to take (capture, examine, measure, mark, tag, and temporarily hold) dusky gopher frogs (Rana sevosa) for the purpose of conducting studies to evaluate habitat requirements.

Permit Application Number: TE 061005-3

Applicant: Rickard Myers, International Carnivorous Plant Society Inc. Walnut Creek, California

The applicant requests authorization to sell in interstate commerce seeds of cultivated green pitcher-plant (Sarracenia oreophil), Alabama cane break pitcher-plant (Sarracenia rubra spp. alabamensis), mountain sweet pitcher-plant (Sarracenia rubra spp. jonesii), and Godrey's butterwort (Pinquicula ionantha) for propagation throughout the United States.

Permit Application Number: TE 40178B-0

Applicant: Eric Washington, Lexington, Kenkucky

The applicant requests authorization to take (acoustical monitoring, enter hibernacula or maternity roost caves, salvage dead bats, capture with mist nets or harp traps, handle, identify, collect hair samples, band, transmitter, light-tag, and wing-punch) Indiana bats (Myotis sodalis), gray bats (Myotis grisescens), and northern long-eared bat (Myotis septentrionalis) while conducting presence/absence surveys and studies to document habitat use throughout the species' ranges.

Permit Application Number: TE 045109-4

Applicant: Jack Killgore, US Army ERDC WES, Vicksburg, Mississippi

The applicant requests authorization to renew his permit to take (capture, hold temporarily, relocate, and release) pallid sturgeon (Scaphirhynchus albus) for the purposes of implementing recovery activities in in the lower Mississippi River from the mouth of the Missouri River to the mouth of the Mississippi River.

Permit Application Number: TE 41966B-0

Applicant: Nicole McCaskill, Sandhills State Forest, Patrick, South Carolina

The applicant requests authorization to take (harass, nest monitor, capture, band, and translocate) the red‐cockaded woodpecker (Picoides borealis) for the purposes of constructing and monitoring artificial nest cavities and restrictors; for capturing, banding, and translocating birds; and for monitoring populations and nest cavities in South Carolina's Sand Hills State Forest.

Permit Application Number: TE 102324-2

Applicant: Thomas Dickinson, Catena Group, Hillsborough, North Carolina

The applicant requests authorization to renew his permit to take (collect relict shells, capture, identify, photograph, and release) James spinymussel (Pleurobema collina), tar spinymussel (Elliptio steinstansana), dwarf-wedge mussel (Alasmidonta heterodon), Carolina heelsplitter (Lasmigona decorata), Appalachian elktoe (Alasmidonta raveneliana), littlewing pearlymussel (Pegias fabula), oyster mussel (Epioblasma capsaeformis), and Cumberland bean (Villosa trabalis), while conducting presence/absence surveys throughout the species' ranges in Georgia, North Carolina, and South Carolina.

Permit Application Number: TE 040423-4

Applicant: Kevin Roe, Iowa State University, Ames, Iowa

The applicant request authorization to take (capture, photograph, examine, remove small appendages (swimmerettes), and release) Kentucky cave shrimp (Palaemonias ganteri) for the purposes of conducting phylogenetic studies in Mammoth Cave National Park, Kentucky.

Permit Application Number: TE 033469-5

Applicant: Larry Wood, McClellanville, South Carolina

The applicant requests authorization to renew his permit to take (harass) red‐cockaded woodpeckers (Picoides borealis) for the purposes of constructing and monitoring artificial nest cavities and restrictors; for capturing, banding, and translocating birds; and for monitoring populations and nest cavities in South Carolina, North Carolina, Virginia, Georgia, Florida, Alabama, Arkansas, Texas, Louisiana, and Mississippi.

Permit Application Number: TE 066980-4

Applicant: Brandon Rutledge, JW Jones Ecological Research Center, Newton, Georgia

The applicant requests authorization to take (harass) red‐cockaded woodpeckers (Picoides borealis) for the purposes conducting restoration and genetic research activities at the JW Jones Ecological Research Center in Newton, Georgia.

Permit Application Number: TE 43261B-0

Applicant: Ann Altman, South Carolina Department of Transportation, Columbia, South Carolina

The applicant requests authorization to take (harass) James spinymussel (Pleurobema collina), tar spinymussel (Elliptio steinstansana), dwarf-wedge mussel (Alasmidonta heterodon), Carolina heelsplitter (Lasmigona decorata), Atlantic pigtoe (Fusconaia masoni), Brook floater (Alsmidonta varicose), Carolina creekshell (Villosa vaugnhiana), green floater (Lasmigona subviridis), Savanna Lilliput (Taxolasma pullus), and yellow lampmussel (Lampsilis cariosa) for the purpose of conducting presence/absence surveys in North Carolina and South Carolina.

Permit Application Number: TE 43264B-0

Applicant: Nicole Riddle, South Carolina Department of Transportation, Columbia, South Carolina

The applicant requests authorization to (take) James spinymussel (Pleurobema collina), tar spinymussel (Elliptio steinstansana), dwarf-wedge mussel (Alasmidonta heterodon), Carolina heelsplitter (Lasmigona decorata), Atlantic pigtoe (Fusconaia masoni), Brook floater (Alsmidonta varicose), Carolina creekshell (Villosa vaugnhiana) green floater (Lasmigona subviridis), Savannah lilliput (Taxolasma pullus), and yellow lampmussel (Lampsilis cariosa) for the purpose of conducting presence/absence surveys in North Carolina and South Carolina.

Permit Application Number: TE 100012-2

Applicant: Michael Reynolds, Share the Beach, Gulf Shores, Alabama

The applicant requests authorization to renew his permit to take (monitor, photograph, excavate and relocate nests, temporarily hold nestlings, and release nestlings) green (Chelonia mydas), Kemp's ridley (Lepidochelys kempi), and loggerhead (Caretta caretta) sea turtles while monitoring and protecting nests, throughout the species' ranges on the Alabama Gulf Coast in Baldwin and Mobile Counties, Alabama.

Permit Application Number: TE 016270-9

Applicant: Michael Barron, US Army, Fort Benning, Georgia

The applicant requests authorization to renew his permit to take (harass) endangered red-cockaded woodpeckers (Picoides borealis) for the purposes of constructing and monitoring artificial nest cavities and restrictors; for capturing, banding, and translocation of birds; and for monitoring populations and nest cavities at the Fort Benning Army Base and throughout species' range as coordinated with the U.S. Fish and Wildlife Service.

Permit Application Number: TE 132772-1

Applicant: John Moran, US Forest Service, Montgomery, Alabama

The applicant requests authorization to take (capture examine, and release) the following species: Cahaba shiner (Notropis cahabae), Cumberlandian Combshell (Epioblasma brevidens), upland Combshell (Epioblasma metastriata), southern acornshell (Epioblasma othcaloogensis), Coosa moccasinshell (Medionidus parvulus), southern clubshell (Pleurobema decisum), dark pigtoe (Pleurobema furvum), southern pigtoe (Pleurobema geogianum), ovate clubshell (Pleurobema perovatum), triangular kidneyshell (Ptychobranchus greenii), flat pebblesnail (Lepyrium showalteri), lacy elimia (Elimia crenatella), cylindrical lioplax (Lioplax cyclostomaformis), Tulotoma snail (Tulotoma magnifica), rush darter (Etheostoma phytophilum), southern sandshell (Hamiota oustralis), Alabama pearlshell (Margaritifera marrianae), fuzzy pigtoe (Pieurobema strodeanum), and Southern kidneyshell (Ptychobranchus jonesi), for the purposes of conducting land management and basic research activities throughout the species' ranges on National Forests in Alabama.

Permit Application Number: TE 386424A-1

Applicant: Kenneth Meyer, Avian Research and Conservation Institute, Gainesville, Florida

The applicant requests authorization to take (capture, weigh, measure, examine, collect blood and tissues, sex, band, attach scientific devices, release, and salvage) everglades snail kites (Rostrhamus sociabilis plumbeus) for the purpose of scientific study and to determine potential contaminant levels in the following Florida counties: Osceola, Polk, Glades, Palm Beach, Hendry, Broward, Miami-Dade, Monroe, and Collier.

Permit Application Number: TE 069754-5

Applicant: Gerald Dinkins, Dinkins Biological Consulting, Powell, Tennessee

The applicant requests authorization to take (harass, capture, handle, identify, release, translocate live specimens, and collect relict shells): 211 species of mussels, while conducting presence/absence surveys in Georgia, Alabama, Tennessee, North Carolina, Kentucky, Virginia, West Virginia, Indiana, Illinois, Missouri, Ohio, Iowa, Minnesota, Wisconsin, Michigan, Arkansas, Pennsylvania, South Carolina, and Maryland.

Permit Application Number: TE 069754-5

Applicant: James Godwin, Auburn University, Auburn, Alabama

The applicant requests authorization to renew his permit to take (capture, harass, handle, mark, collect tissue and bodily fluid samples, attach/insert scientific devices, relocate, and release) the Alabama red-bellied turtle (Pseudemys alabamensis), eastern indigo snake (Drymarchon couperi), flattened musk turtle (Sternotherus depressus), gopher tortoise (Gopherus Polyphemus), and red hills salamander (Phaeognathus hubrichti) in Alabama and Mississippi.

Permit Application Number: TE 47720B-0

Applicant: Hector Perez, University of Florida, Gainesville, Florida

The applicant requests authorization to take (harvest immature fruits) Harper's beauty (Harperocallis flava) from Apalachicola National Forest, Liberty County, Florida, for the purpose of cultivating seedlings at the University of Florida Plant Science Greenhouse Facility in Liberty County, Florida. Cultivated seedlings will be reintroduced to Apalachicola National Forest to aid in recovery and provide information on the germination ecology and seedling establishment of Harper's Fairy.

Permit Application Number: TE 816862-7

Applicant: Joseph Settles, Young and Settles, Winchester, Kentucky

The applicant requests authorization to take (capture, identify, tag, and release) northern long-eared bats (Myotis septentrionalis), Virginia big-eared bats (Plecotus townsendii virginianus), Indiana bats (Myotis sodalis), gray bats (Myotis grisescens), and 29 species of freshwater mussels, for the purpose of conducting presence/absence surveys studies to document habitat use throughout each species' respective range in reference to bats, and in the State of Kentucky in reference to mussels.

Permit Application Number: TE 94704A-1

Applicant: Dorothy Brown, Alpharetta, Georgia

The applicant requests authorization to take (acoustical monitoring, enter hibernacula or maternity roost caves, salvage dead bats, capture with mist nets or harp traps, handle, identify, collect hair samples, band, transmitter, light-tag, and wing-punch) Indiana bats (Myotis sodalis), gray bats (Myotis grisescens), and northern long-eared bats (Myotis Septentrionalis) while conducting presence/absence surveys and studies to document habitat use in North Carolina, South Carolina, Georgia, Alabama, Florida, Mississippi, Kentucky, Virginia, Maryland, West Virginia, Indiana, Ohio, Arkansas, Missouri, Illinois. The applicant also requests authorization to take (capture, handle, tag, and release) Carolina northern flying squirrel (Glaucomys sabrinus coloratus) and bog turtle (Clemmys muhlenbergii) for the same purposes and states listed above.

Permit Application Number: TE 070800-4

Applicant: Ecological Services Inc., Roswell, Georgia

The applicant requests authorization to take (capture and release) 45 species of freshwater mussels, 11 species of snails, 20 species of freshwater fish, and 22 species of plants for the purpose of conducting presence/absence surveys in Georgia.

Permit Application Number: TE 48579B-0

Applicant: J. Erik Alford, Ecological Solutions, Roswell, Georgia

The applicant requests authorization to take (acoustical monitoring, enter hibernacula or maternity roost caves, salvage dead bats, capture with mist nets or harp traps, handle, identify, collect hair and tissue samples, swab for white nose syndrome, band, transmitter, light-tag, and wing-punch) Indiana bats (Myotis sodalis), gray bats (Myotis grisescens), and northern long-eared bats (Myotis Septentrionalis) while conducting presence/absence surveys and studies to document habitat use in Georgia.

Dated: October 9, 2014.
Michael Oetker,
Acting Regional Director, Region 4.

[FR Doc. 2014-24702 Filed 10-16-14; 8:45 am]

BILLING CODE 4310-55-P